DEPARTMENT OF THE TREASURY

Internal Revenue Service

26 CFR Part 1

[REG-131997-02]

RIN 1545-BA85

Section 42 Carryover and Stacking Rule Amendments; Hearing

AGENCY: Internal Revenue Service (IRS), Treasury.

ACTION: Change of location of public hearing.

SUMMARY: This document changes the location of a public hearing on proposed regulations relating to section 42 carryover and stacking rules.

DATES: The public hearing scheduled in room 2615 on Tuesday, September 23, 2003 is rescheduled to be held in room 4718 at 10 a.m.

FOR FURTHER INFORMATION CONTACT: Concerning submissions of comments, the hearing, and/or to be placed on the building access list to attend the hearing, contact Guy R. Traynor at (202) 622-3693 (not a toll-free number).

SUPPLEMENTARY INFORMATION: A notice of proposed rulemaking and notice of public hearing that was published in the Federal Register on July 7, 2003 (68 FR 40218), announced that a public hearing on proposed regulations relating to section 42 carryover and stacking rules, would be held on Tuesday, September 23, 2003, beginning at 10 a.m., in room 2615 of the Internal Revenue Building, 1111 Constitution Avenue NW., Washington, DC.

The location of the public hearing has changed. The public hearing for proposed regulations (REG-131997-02) will be held in room 4718, beginning at 10 a.m., in the Internal Revenue Building, 1111 Constitution Avenue NW., Washington, DC. Because of controlled access restrictions, attendees are not admitted beyond the lobby of the Internal Revenue Building until 9:30 a.m. The IRS will prepare an agenda showing the scheduling of the speakers after the outlines are received from the persons testifying and make copies available free of charge at the hearing.

Cynthia E. Grigsby,
Chief, Regulations Unit, Associate Chief Counsel, (Procedure & Administration).

[FR Doc. 03-19538 Filed 7-30-03; 8:45 am]

BILLING CODE 4830-01-P